FEDERAL HOUSING FINANCE BOARD

12 CFR Part 910

FEDERAL HOUSING FINANCE AGENCY

12 CFR Part 1202

DEPARTMENT OF HOUSING AND URBAN DEVELOPMENT

Office of Federal Housing Enterprise Oversight

12 CFR Part 1703

RIN 2590-AA05

Freedom of Information Act Implementation

AGENCIES: Federal Housing Finance Agency; Federal Housing Finance Board; Office of Federal Housing Enterprise Oversight.

ACTION: Final rule; technical amendment.

SUMMARY: On January 15, 2009, the Federal Housing Finance Agency (FHFA) published a final rule implementing the Freedom of Information Act (FOIA). This technical rulemaking will delete the FOIA rules promulgated by the FHFA's predecessor agencies, the Federal Housing Finance Board (FHFB) and Office of Federal Housing Enterprise Oversight (OFHEO). It also will remove now obsolete references in the FHFA rule to the FHFB and OFHEO.

DATES: Effective Date: May 26, 2009.

FOR FURTHER INFORMATION CONTACT: Janice Kaye, Chief FOIA Officer, janice.kaye@fhfa.gov, 202-343-1514, Federal Housing Finance Agency, 1700 G Street NW., Washington, DC 20552. The telephone number for the telecommunications device for the deaf (TDD) is 800-877-8339.

SUPPLEMENTARY INFORMATION:

I. Background

Effective July 30, 2008, Division A of the Housing and Economic Recovery Act of 2008 (HERA), Public Law No. 110-289, 122 Stat. 2654 (2008), titled the Federal Housing Finance Regulatory Reform Act of 2008, created the Federal Housing Finance Agency as an independent agency of the Federal Government. HERA transferred supervisory and oversight responsibilities over the Federal National Mortgage Association (Fannie Mae), the Federal Home Loan Mortgage Corporation (Freddie Mac), and the Federal Home Loan Banks (collectively, Regulated Entities) from OFHEO and the FHFB to the FHFA. The Regulated Entities continue to operate under regulations promulgated by OFHEO and the FHFB until such time as the existing regulations are supplanted by regulations promulgated by the FHFA.

On January 15, 2009, the FHFA published a final rule to implement the FOIA. See 74 FR 2342 (Jan. 15, 2009). The FHFA's FOIA implementation rule is codified at 12 CFR part 1202. Because the FHFA FOIA rule now is effective, the agency is removing the FOIA rules of its predecessor agencies, the FHFB and OFHEO, codified respectively at 12 CFR parts 910 and 1703, subparts A through D. This rulemaking also deletes now obsolete references to the FHFA and OFHEO in section 1202.3 concerning the location of the FOIA Reading Room.

II. Notice and Public Participation

The notice and comment procedure required by the Administrative Procedure Act is inapplicable to this final rule because the rule is procedural and makes only technical changes. See 5 U.S.C. 553(b)(3)(A).

III. Paperwork Reduction Act

The final regulation does not contain any information collection requirement that requires the approval of the Office of Management and Budget under the Paperwork Reduction Act (44 U.S.C. 3501 et seq.).

IV. Regulatory Flexibility Act

The FHFA is adopting this regulation in the form of a final rule and not as a proposed rule. Therefore, the provisions of the Regulatory Flexibility Act do not apply. See 5 U.S.C. 601(2) and 603(a).

List of Subjects

12 CFR Part 910

Confidential business information, Freedom of information, Reporting and recordkeeping requirements.

12 CFR Part 1202

Appeals, Confidential commercial information, Disclosure, Exemptions, Fees, Final action, Freedom of information, Judicial review, Records, Requests.

12 CFR Part 1703

Administrative practice and procedure, Confidential business information, Freedom of information.

For the reasons stated in the preamble, under the authority of 12 U.S.C. 4526_, the FHFA is amending 12 CFR chapters IX, XII, and XVII as follows:

CHAPTER IX—Federal Housing Finance Board

PART 910—[REMOVED]

1. Remove part 910.

CHAPTER XII—Federal Housing Finance Agency

PART 1202—FREEDOM OF INFORMATION ACT

2. The authority citation for part 1202 continues to read as follows:

Authority: Pub. L. 110-289, 122 Stat. 2654; 5 U.S.C. 301, 552; 12 U.S.C. 4526; E.O. 12600, 52 FR 23781, 3 CFR, 1987 Comp., p. 235; E.O. 13392, 70 FR 75373-75377, 3 CFR, 2006 Comp., p. 216-200.

3. Revise § 1202.3(c) to read as follows:

§ 1202.3 What information can I obtain through FOIA?

* * * * *

(c) Reading rooms. (1) FHFA maintains electronic and physical reading rooms. The physical reading room is located at 1700 G Street, NW., Fourth Floor, Washington, DC 20552, and is open to the public by appointment from 9 a.m. to 3 p.m. each business day. For an appointment, contact the FOIA Officer by calling 202-414-6425 or by e-mail at foia@fhfa.gov. The electronic reading room is part of the FHFA Web site at http://www.fhfa.gov.

(2) Each reading room has the following records created by FHFA or its predecessor agencies after November 1, 1996, and current indices to all of the following records created by FHFA or its predecessor agencies before or after November 1, 1996:

(i) Final opinions or orders issued in adjudication;

(ii) Statements of policy and interpretation that are not published in the Federal Register;

(iii) Administrative staff manuals and instructions to staff that affect a member of the public, and are not exempt from disclosure under FOIA; and

(iv) Copies of records released under FOIA that FHFA determines have become or are likely to become the subject of subsequent requests for substantially the same records.

CHAPTER XVII—Office of Federal Housing Enterprise Oversight, Department of Housing and Urban Development

PART 1703—RELEASE OF INFORMATION

4. The authority citation for part 1703 continues to read as follows:

Authority: Pub. L. 110-289, 122 Stat. 2654; 5 U.S.C. 301, 552; 12 U.S.C. 4526; E.O. 12600, 52 FR 23781, 3 CFR, 1987 Comp., p. 235; E.O. 13392, 70 FR 75373-75377, 3 CFR, 2006 Comp., p. 216-200.

Subparts A-D [Removed and Reserved]

5. Remove and reserve subparts A through D.

Dated: April 15, 2009.
James B. Lockhart III,
Director, Federal Housing Finance Agency.

[FR Doc. E9-9424 Filed 4-23-09; 8:45 am]

BILLING CODE 8070-01-P